DEPARTMENT OF COMMERCE

International Trade Administration

[A-433-812]

Certain Carbon and Alloy Steel Cut-to-Length Plate From Austria: Preliminary Results of the Antidumping Duty Administrative Review; 2016-2018

AGENCY: Enforcement and Compliance, International Trade Administration, Department of Commerce.

SUMMARY: The Department of Commerce (Commerce) preliminarily finds that sales of certain carbon and alloy steel cut-to-length plate (CTL plate) from Austria have been made below normal value (NV) during the period of review (POR), November 14, 2016, through April 30, 2018. We invite interested parties to comment on these preliminary results.

DATES: Applicable June 13, 2019.

FOR FURTHER INFORMATION CONTACT: Preston Cox, AD/CVD Operations, Office VI, Enforcement and Compliance, International Trade Administration, U.S. Department of Commerce, 1401 Constitution Avenue NW, Washington, DC 20230; telephone: (202) 482-5041.

SUPPLEMENTARY INFORMATION:

Background

On July 6, 2018, based on timely requests for review, in accordance with 19 CFR 351.221(c)(1)(i), we initiated an antidumping duty administrative review on CTL plate from Austria.¹ This review covers two producers/exporters of the subject merchandise: Bohler Edelstahl GmbH & Co KG (BEG) and Bohler Bleche GmbH & Co KG (BBG), and their affiliated companies Bohler International GmbH (BIG), voestalpine Grobblech GmbH (Grobblech), and voestalpine Steel & Service Center GmbH (SSC) (collectively, voestalpine).² The POR is November 14, 2016, through April 30, 2018.

¹ See Initiation of Antidumping and Countervailing Duty Administrative Reviews, 83 FR 32270 (July 12, 2018).

² We preliminarily find that voestalpine Bohler Edelstahl GmbH & Co KG (vaBEG), voestalpine Bohler Bleche GmbH & Co KG (vaBBG), and voestalpine High Performance Metals International GmbH (vaHPMI) are the successors-in-interest to BEG, BBG, and BIG, respectively. Additionally, we preliminarily collapsed vaBEG, vaBBG, and their affiliated companies vaHPMI, Grobblech, and SSC (collectively, voestalpine). See Memorandum, “Analysis Memorandum for voestalpine Companies in the Preliminary Results of the 2016/2018 Administrative Review of the Antidumping Duty Order on Certain Carbon and Alloy Steel Cut-to-Length Plate from Austria,” dated concurrently with and hereby adopted by this notice (Preliminary Analysis Memorandum).

Commerce exercised its discretion to toll all deadlines affected by the partial federal government closure from December 22, 2018, through the resumption of operations on January 29, 2019.³ The revised deadline for the preliminary results of this review was then March 12, 2019. On March 4, 2019, we extended the preliminary results of this review to no later than June 7, 2019.⁴ For a complete description of the events that followed the initiation of this review, see the Preliminary Decision Memorandum.⁵ The Preliminary Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Preliminary Decision Memorandum can be accessed at http://enforcement.trade.gov/frn/. The signed Preliminary Decision Memorandum and the electronic version of the Preliminary Decision Memorandum are identical in content. A list of the topics discussed in the Preliminary Decision Memorandum is attached as an Appendix to this notice.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding affected by the partial federal government closure have been extended by 40 days.

⁴ See Memorandum, “Certain Carbon and Alloy Steel Cut-to-Length Plate from Austria: Extension of Deadline for Preliminary Results of Antidumping Duty Administrative Review; 2016-2018,” dated March 4, 2019.

⁵ See Memorandum, “Decision Memorandum for the Preliminary Results of the 2016-2018 Administrative Review of the Antidumping Duty Order on Certain Carbon and Alloy Steel Cut-To-Length Plate from Austria,” dated concurrently with and hereby adopted by this notice.

Scope of the Order

The product covered by the scope of the order is CTL plate from Austria. For a complete description of the scope, see Preliminary Decision Memorandum.

Methodology

Commerce is conducting this review in accordance with sections 751(a)(1)(B) and (2) of the Tariff Act of 1930, as amended (the Act). Export price and, where appropriate, constructed export price is calculated in accordance with section 772 of the Act. NV is calculated in accordance with section 773 of the Act. For a full description of the methodology underlying our conclusions, see the Preliminary Decision Memorandum.

Preliminary Results of the Review

As a result of this review, Commerce preliminarily determines that the following weighted-average dumping margin exists for the period November 14, 2016, through April 30, 2018:

Exporter/manufacturer | Weighted- average dumping margin (percent)
voestalpine Bohler Edelstahl GmbH & Co KG, voestalpine Bohler Bleche GmbH & Co KG, voestalpine High Performance Metals International GmbH, voestalpine Grobblech GmbH, voestalpine Steel & Service Center GmbH | 51.48

Disclosure and Public Comment

Commerce will disclose to parties to the proceeding any calculations performed in connection with these preliminary results of review within five days after the date of publication of this notice.⁶ Interested parties may submit case briefs not later than 30 days after the date of publication of this notice in the Federal Register.⁷ Rebuttal briefs, limited to issues raised in the case briefs, may be filed no later than five days after the deadline for filing case briefs.⁸ Parties who submit case or rebuttal briefs in this proceeding are requested to submit with each argument: (1) A statement of the issue; (2) a brief summary of the argument; and (3) a table of authorities.⁹ Case and rebuttal briefs should be filed using ACCESS.¹⁰

⁶ See 19 CFR 351.224(b).

⁷ See 19 CFR 351.309(c)(1)(ii).

⁸ See 19 CFR 351.309(d)(1).

⁹ See 19 CFR 351.309(c)(2) and (d)(2).

¹⁰ See 19 CFR 351.303.

Interested parties who wish to request a hearing must submit a written request to the Assistant Secretary for Enforcement and Compliance within 30 days of the date of publication of this notice.¹¹ Requests should contain: (1) The party's name, address and telephone number; (2) the number of participants; and (3) a list of issues parties intend to discuss. Issues raised in the hearing will be limited to those raised in the respective case and rebuttal briefs.¹² If a request for a hearing is made, Commerce intends to hold the hearing at the U.S. Department of Commerce, 1401 Constitution Avenue NW, Washington, DC 20230, at a date and time to be determined.¹³ Parties should confirm by telephone the date, time, and location of the hearing two days before the scheduled date.

¹¹ See 19 CFR 351.310(c).

¹² See 19 CFR 351.310(c).

¹³ See 19 CFR 351.310(d).

Parties are reminded that briefs and hearing requests are to be filed electronically using ACCESS and that electronically filed documents must be received successfully in their entirety by 5:00 p.m. Eastern Time on the due date.

Unless extended, Commerce intends to issue the final results of this administrative review, which will include the results of our analysis of all issues raised in the case briefs, within 120 days of publication of these preliminary results in the Federal Register, pursuant to section 751(a)(3)(A) of the Act.

Assessment Rates

Upon completion of the administrative review, Commerce shall determine, and U.S. Customs and Border Protection (CBP) shall assess, antidumping duties on all appropriate entries covered by this review.¹⁴ The final results of this review shall be the basis for the assessment of antidumping duties on entries of merchandise covered by the final results of this review and for future deposits of estimated duties, where applicable.¹⁵ We intend to issue instructions to CBP 15 days after the publication date of the final results of this review.

¹⁴ See 19 CFR 351.212(b).

¹⁵ See section 751(a)(2)(C) of the Act.

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for voestalpine will be equal to the weighted-average dumping margin established in the final results of this administrative review, except if the rate is zero or de minimis within the meaning of 19 CFR 351.106(c)(1), in which case the cash deposit rate will be zero; (2) for previously reviewed or investigated companies not listed above, the cash deposit rate will continue to be the company-specific rate published for the most recently completed segment of this proceeding in which they were reviewed; (3) if the exporter is not a firm covered in this review, a prior review, or in the investigation but the producer is, the cash deposit rate will be the rate established for the most recently completed segment of this proceeding for the producer of the merchandise; and (4) the cash deposit rate for all other producers or exporters will continue to be the all-others rate of 28.57 percent from the investigation. These cash deposit requirements, when imposed, shall remain in effect until further notice.

Notification to Importers

This notice also serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act and sections 19 CFR 351.213(h)(1) and 351.221(b)(4).

Dated: June 10, 2019.
Jeffrey I. Kessler,
Assistant Secretary for Antidumping and Countervailing Duty Operations.

Appendix

List of Topics Discussed in the Preliminary Decision Memorandum

I. Summary

II. Background

III. Scope of the Order

IV. Successor-in-Interest

V. Affiliation and Collapsing of Affiliates

VI. Discussion of the Methodology

A. Comparisons to Normal Value

B. Determination of Comparison Method

C. Results of the Differential Pricing Analysis

VII. Product Comparisons

VIII. Date of Sale

IX. Export Price and Constructed Export Price

X. Normal Value

A. Home Market Viability and Selection of Comparison Market

B. Affiliated Party Transactions and Arm's-Length Test

C. Level of Trade

D. Cost of Production Analysis

1. Calculation of Cost of Production

2. Test of Comparison Market Sales Prices

3. Results of the COP Test

E. Calculation of Normal Value Based on Comparison Market Prices

XI. Currency Conversion

XII. Recommendation

[FR Doc. 2019-12499 Filed 6-12-19; 8:45 am]

BILLING CODE 3510-DS-P